ENVIRONMENTAL PROTECTION AGENCY

[ER-FRL-9032-6]

Environmental Impact Statements; Notice of Availability

Responsible Agency: Office of Federal Activities, General Information (202) 564-7146 or http://www.epa.gov/nepa.

Weekly receipt of Environmental Impact Statements (EISs)

Filed 04/03/2017 Through 04/07/2017

Pursuant to 40 CFR 1506.9

Notice

Section 309(a) of the Clean Air Act requires that EPA make public its comments on EISs issued by other Federal agencies. EPA's comment letters on EISs are available at: http://www.epa.gov/compliance/nepa/eisdata.html

EIS No. 20170053, Final, USAF, NC, KC-46A Third Main Operating Base Beddown, Review Period Ends: 05/15/2017, Contact: Hamid Kamalpour 210-925-3001

EIS No. 20170054, Final, NOAA, AL, Deepwater Horizon Oil Spill Alabama Trustee Implementation Group Final Restoration Plan I and Environmental Impact Statement: Provide and Enhance Recreational Opportunities, Review Period Ends: 05/15/2017, Contact: Dan Van Nostrand 251-544-5015

EIS No. 20170055, Final, FERC, PA, PennEast Pipeline Project, Review Period Ends: 05/15/2017, Contact: Medha Kochhar 202-502-8964

EIS No. 20170056, Final, USFS, ID, Designated Routes and Areas for Motor Vehicle Use (DRAMVU), Review Period Ends: 05/15/2017, Contact: Jennie Fischer 208-983-4048

Dated: April 11, 2017.
Dawn Roberts,
Management Analyst, NEPA Compliance Division, Office of Federal Activities.

[FR Doc. 2017-07592 Filed 4-13-17; 8:45 am]

BILLING CODE 6560-50-P